DEPARTMENT OF EDUCATION

34 CFR Part 668

[Docket ID ED-2009-OPE-0003]

RIN 1840-AC95

Institutions and Lender Requirements Relating to Education Loans, Student Assistance General Provisions, Federal Perkins Loan Program, Federal Family Education Loan Program, and William D. Ford Federal Direct Loan Program; Corrections

AGENCY: Office of Postsecondary Education, Department of Education.

ACTION: Correcting amendments.

SUMMARY: On October 28, 2009, the Department of Education (Department) published final regulations in the Federal Register to implement requirements relating to education loans that were added to the Higher Education Act of 1965, as amended (HEA), by the Higher Education Opportunity Act (HEOA). The Department also amended regulations for the Student Assistance General Provisions, Federal Perkins Loan Program, Federal Family Education Loan Program, and William D. Ford Federal Direct Loan Program to implement certain provisions of the HEA that involve school-based loan issues and that were affected by the statutory changes made to the HEA by the HEOA. That document inadvertently included minor technical errors in the amendments to 34 CFR part 668. This document corrects the final regulations.

DATES: August 22, 2011.

FOR FURTHER INFORMATION CONTACT: Marty Guthrie, U.S. Department of Education, 1990 K Street, NW., room 8042, Washington, DC 20006-8502. Telephone: (202) 219-7031 or via the Internet at: Marty.Guthrie@ed.gov.

If you use a telecommunications device for the deaf (TDD), call the Federal Relay Service (FRS), toll free, at 1-800-877-8339.

Individuals with disabilities can obtain this document in an accessible format (e.g., braille, large print, audiotape, or compact disc) on request to the contact person listed in this section.

SUPPLEMENTARY INFORMATION: This document corrects minor technical errors included in the final regulations which were published in the Federal Register on October 28, 2009 (74 FR 55626).

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

List of Subjects in 34 CFR Part 668

Administrative practice and procedure, Colleges and universities, Consumer protection, Education, Loan programs—education, Reporting and recordkeeping requirements, Student aid.

Accordingly, 34 CFR part 668 is corrected by making the following correcting amendments:

PART 668—STUDENT ASSISTANCE GENERAL PROVISIONS

1. The authority citation for part 668 continues to read as follows:

Authority: 20 U.S.C. 1001, 1002, 1003, 1070g, 1085, 1088, 1091, 1092, 1094, 1099c, and 1099c-1, unless otherwise noted.

§ 668.16 [Corrected]

2. In § 668.16(m)(2)(iv), add the word “will” after the word “we”.

§ 668.213 [Corrected]

3. In § 668.213—

A. In paragraph (g)(1), add the words “or of a rate described in paragraph (a)(2) of this section” after the words “you receive the notice of your loss of eligibility”.

B. In paragraph (g)(2), add the words “or of a rate described in paragraph (a)(2) of this section” after the words “you receive the notice of your loss of eligibility”.

(Catalog of Federal Domestic Assistance Numbers: 84.032 Federal Family Education Loan Program; 84.038 Federal Perkins Loan Program; 84.268 William D. Ford Federal Direct Loan Program.)

Dated: August 17, 2011.
Eduardo M. Ochoa,
Assistant Secretary for Postsecondary Education.

[FR Doc. 2011-21356 Filed 8-19-11; 8:45 am]

BILLING CODE 4000-01-P